DEPARTMENT OF COMMERCE

National Oceanic and Atmospheric Administration

[RTID 0648-XC675]

Endangered Species; Take of Anadromous Fish

AGENCY: National Marine Fisheries Service (NMFS), National Oceanic and Atmospheric Administration (NOAA), U.S. Department of Commerce.

ACTION: Notice of receipt; for modification and renewal of an existing scientific research and enhancement permit.

SUMMARY: Notice is hereby given that NMFS received an application from the Wiyot Tribe in Loleta, California for modification and renewal of an U.S. Endangered Species Act (ESA) Section 10(a)(1)(A) scientific and enhancement permit (Permit 22270-2R). The purpose of the permit is to enhance the survival of threatened Southern Oregon/Northern California Coast (SONCC) Evolutionary Significant Unit (ESU) of coho salmon (Oncorhynchus kisutch); threatened California Coast (CC) ESU Chinook salmon (O. tshawytscha); and threatened Northern California (NC) Distinct Population Segment (DPS) of steelhead (O. mykiss) by segregating and removing predatory non-native Sacramento River pikeminnow using a variety of techniques. The University of California at Berkeley and Stillwater Sciences are co-investigators on the permit and will assist with implementation of the permit activities. The public is hereby notified that the application for Permit 22270-2R is available for review and comment before NMFS either approves or disapproves the application.

DATES: Written comments on the permit application must be received at the appropriate email address (see ADDRESSES) on or before February 21, 2023.

ADDRESSES: Written comments on the permit application should be submitted to Matt Goldsworthy via email at Matt.Goldsworthy@noaa.gov with “Permit 22270-2R” referenced in the subject line. The permit application and Weir Operations Plan is available for review online at the Authorizations and Permits for Protected Species website: https://apps.nmfs.noaa.gov/preview/preview_open_for_comment.cfm.

FOR FURTHER INFORMATION CONTACT: Matt Goldsworthy (phone: 707-357-1338 or email: Matt.Goldsworthy@noaa.gov.

SUPPLEMENTARY INFORMATION:

Species Covered in This Notice

Southern Oregon/Northern California Coast (SONCC) Evolutionary Significant Unit (ESU) of coho salmon (Oncorhynchus kisutch); California Coast (CC) ESU of Chinook salmon (O. tshawytscha); and Northern California (NC) Distinct Population Segment (DPS) of steelhead (O. mykiss).

Authority

Scientific research and enhancement permits are issued in accordance with Section 10(a)(1)(A) of the ESA (16 U.S.C. 1531 et seq.) and regulations governing listed fish and wildlife permits (50 CFR 222-227). NMFS issues permits based on findings that such permits: (1) are applied for in good faith; (2) would not operate to the disadvantage of the listed species which are the subject of the permits; and (3) are consistent with the purposes and policies set forth in Section 2 of the ESA. Authority to take listed species is subject to conditions set forth in the permits.

This notice is provided pursuant to Section 10(c) of the ESA. NMFS will evaluate the application, associated documents, and any comment submitted to determine whether the application meets the requirements of Section 10(a) of the ESA and Federal regulations. The final permit decisions will not be made until after the end of the 30-day comment period and consideration of any comment submitted therein. NMFS will publish notice of its final action in the Federal Register.

Those individuals requesting a hearing on the application listed in this notice should provide the specific reasons why a hearing on the application would be appropriate (see ADDRESSES). Such a hearing is held at the discretion of the Assistant Administrator for NOAA Fisheries.

Permit Application Received:

Permit 22270-2R

The Wiyot Tribe in Loleta, California applied for modification and renewal of a Section 10(a)(1)(A) scientific research and enhancement permit (Permit 22270-2R). The University of California at Berkeley and Stillwater Sciences are co-investigators on the permit and will assist with implementation of the permit activities. The application involves research and activities to enhance the survival of threatened Southern Oregon/Northern California Coast (SONCC) Evolutionary Significant Unit (ESU) of coho salmon (Oncorhynchus kisutch); threatened California Coast (CC) ESU Chinook salmon (O. tshawytscha); and threatened Northern California (NC) Distinct Population Segment (DPS) of steelhead (O. mykiss) by segregating and removing predatory non-native river pikeminnow (Ptychocheilus grandis) using a variety of techniques.

This project's objectives are to: (1) remove large numbers of predatory non-native Sacramento River pikeminnow from the mainstems of the South Fork Eel River, Van Duzen River, and Lower Eel River to increase survival of listed salmonids and other native species; (2) continue to refine methods and strategies for pikeminnow population suppression across a range of habitats; (3) operate a resistance board weir to segregate pikeminnow from the South Fork Eel River headwaters and further suppress their population; and (4) evaluate pikeminnow and salmonid responses to suppression activities. This work, which may occur for up to five years, will affect SONCC coho salmon, CC Chinook salmon, and NC steelhead.

Suppression techniques will include boat electrofishing, seining, active gillnetting, spearfishing, hook-and-line, and the weir trap box. Suppression timing, gear types, and methods are designed to minimize encountering and impacting salmonids. Importantly, prior to conducting suppression, sites will be snorkeled and will be avoided if salmonids are present. The weir will be operated after April 1, by which time most steelhead will have spawned and emigrated. A small proportion of adult steelhead will move through the weir.

To investigate how pikeminnow suppression influences their movement and survival, juvenile coho salmon, Chinook salmon and steelhead will be captured with downstream migrant traps, a portion of juvenile coho salmon and juvenile steelhead will be acoustically-tagged, released, and tracked with a network of receivers.

Field activities for the various proposed research and enhancement components will occur annually as described for each location below for a duration of approximately 5 years through December 31, 2028.

Resistance Board Weir Operations Plan

The seasonal resistance board weir will be constructed in the mainstem South Fork Eel River just downstream from Indian Creek, 83 river kilometers upstream from the mainstem Eel River. For details on the specifics of the weir design, operation, and measures to reduce impacts on native fish see the supplemental document “Weir Operation Plan.” The primary goals of this method are to: (1) segregate migratory pikeminnow from prime salmon rearing habitat in the upper mainstem South Fork Eel River; (2) capture and euthanize large numbers of these introduced predatory fish and (3) better understand the life history timing of pikeminnow and native salmonids.

Other Suppression Techniques

Suppression techniques will include boat electrofishing, seining, active gillnetting, spearfishing, hook-and-line, and the resistance board weir (discussed above). Boat electrofishing will only be conducted in the lower reaches of the South Fork Eel River that do not contain salmonids during the summer sampling period. Prior to electrofishing, each sample site will be snorkeled to determine where pikeminnow are and to verify that no salmonids are present.

Seining will be conducted in the South Fork Eel River, Van Duzen River, and Lower Eel River using knotless nylon nets. In addition to sampling smaller size classes of pikeminnow in shallow water, seines may be deployed for active sampling, where snorkelers herd fish out of deeper water into the nets. Seines will also be used to capture juvenile coho salmon and steelhead for acoustic tagging.

Active gillnetting will be conducted in the mainstems of the South Fork Eel River, Van Duzen River, and Lower Eel River during time periods to avoid salmonids. As with other methods, prior to conducting gillnetting, each site will be snorkeled to ensure the absence of non-target species. Gillnets will never be left unattended in the water; gillnets will be actively tended and constantly inspected to ensure no harm is done to salmonids or other non-target species. At some sites, two gillnets will may be actively maneuvered toward each other by divers to capture fleeing pikeminnow.

Spearfishing and hook and line sampling will be conducted in the South Fork Eel River, Van Duzen River, and Lower Eel River. Only divers with extensive experience distinguishing pikeminnow from native fish will be used. Hook-and-line sampling will rely on using only barbless hooks and any juvenile steelhead or other non-target species captured will be released immediately.

The following activities in the South Fork Eel River will occur annually:

Feb 1-Jun 1: Daily for up to 2 weeks—downstream migrant trapping, seining

April 1-October 1: Opportunistically—seining, electrofishing

April 1-October 31: Daily—resistance board weir; Biweekly—spearfishing, seining

April 1-September 30: Biweekly—active gillnetting, hook-and-line, snorkeling

July 1-September 30: Weekly—boat electrofishing

June 15-August 31: Biweekly—spearfishing, seining, active gillnetting, hook- and-line, snorkeling

The annual sum of take requested across the various components of this effort in the South Fork Eel River are as follows: (1) non-lethal capture (backpack electrofishing, beach seining, or fyke net) and release of up to 1,000 juvenile SONCC coho salmon, 1,000 juvenile CC Chinook salmon, and 1,000 juvenile NC steelhead; (2) non-lethal capture (backpack electrofishing, beach seining, or fyke net) and release of up to 300 juvenile SONCC coho salmon and 300 juvenile NC steelhead for the purpose of applying acoustic tags and collecting tissue samples by fin clip; (3) non-lethal capture (backpack electrofishing, beach seining, or fyke net) and release of up to 100 juvenile SONCC coho salmon and 100 juvenile NC steelhead for the purpose of applying acoustic tags, collecting tissue samples by fin clip and muscle biopsy; (4) non-lethal capture, tissue sampling, and release of up to 220 adult NC steelhead captured while operating the resistance board weir; (6) non-lethal observation of up to 400 adult NC steelhead on camera or sonar while operating the resistance board weir; (7) non-lethal observation of up to 30 juvenile NC steelhead during snorkel and diving surveys; and (8) non-lethal capture and release of up to 16 juvenile NC steelhead while boat electrofishing, beach seining, active gillnetting, and hook-and-line methods. The potential annual unintentional lethal take of SONCC coho salmon, CC Chinook salmon and NC steelhead expected to result from the proposed research and enhancement activities in the South Fork Eel River is up to 12 juvenile SONCC coho salmon, 4 juvenile CC Chinook salmon, 17 juvenile NC steelhead, and one adult NC steelhead.

The following activities will occur in the Van Duzen River annually:

July 1-October 31: Biweekly—spearfishing, seining, active gillnetting, hook- and-line, snorkeling

The annual sum of take requested across the various components of this effort in the Van Duzen River are as follows: (1) non-lethal observation of up to 750 juvenile NC steelhead during snorkel and diving surveys; (2) non-lethal capture and release of up to 35 juvenile NC steelhead while beach seining, active gillnetting, and hook-and-line methods. The potential annual unintentional lethal NC steelhead take expected to result from the proposed enhancement activities in the Van Duzen River is up to 3 juvenile NC steelhead.

The following activities will occur in the Lower Eel River annually:

June 15-August 31: Biweekly—spearfishing, seining, active gillnetting, hook-and-line, snorkeling

The annual sum of take requested across the various components of this effort in the Lower Eel River are as follows: (1) non-lethal observation of up to 100 juvenile SONCC coho salmon, 750 juvenile CC Chinook salmon, and 750 juvenile NC steelhead during snorkel and diving surveys; (2) non-lethal capture and release of up to 3 juvenile SONCC coho salmon, 3 juvenile CC Chinook salmon, and 35 juvenile NC steelhead while beach seining, active gillnetting, and hook-and-line methods. The potential annual unintentional lethal SONCC coho salmon, CC Chinook salmon, and NC steelhead take expected to result from the proposed enhancement activities in the Lower Eel River is up to 3 juvenile SONCC coho salmon, 3 juvenile CC Chinook salmon, and 3 juvenile NC steelhead.

This proposed scientific research and enhancement effort is expected to enhance survival and support recovery within the SONCC ESU of coho salmon, CC ESU of Chinook salmon, and the NC DPS of steelhead and is consistent with recommendations and objectives outlined in NMFS' Southern Oregon/Northern California Coast ESU Coho Salmon Recovery Plan and Coastal Multispecies Recovery Plan. See the Permit 22270-2R application for greater details on the various components of this scientific research and enhancement effort including the specific scientific methods proposed and take allotments requested for each.

Dated: January 12, 2023.
Angela Somma,
Chief, Endangered Species Division, Office of Protected Resources, National Marine Fisheries Service.

[FR Doc. 2023-00915 Filed 1-18-23; 8:45 am]

BILLING CODE 3510-22-P